ENVIRONMENTAL PROTECTION AGENCY

40 CFR Part 52 and Part 70

[EPA-R02-OAR-2012-0032, FRL-9675-1]

Approval and Promulgation of Implementation Plans and Operating Permits Program; Commonwealth of Puerto Rico; Administrative Changes

AGENCY: Environmental Protection Agency (EPA).

ACTION: Withdrawal of direct final rule.

SUMMARY: Due to an adverse comment, EPA is withdrawing the direct final rule, published on March 22, 2012, that approved revisions to the Puerto Rico Regulations for the Control of Atmospheric Pollution. Those revisions were submitted to EPA by the Puerto Rico Environmental Quality Board on July 13, 2011, and consist of amendments to Rules 102, 111, 115, 116 and Appendix A. Generally the revisions to the regulations involve administrative changes which improve the clarity of the rules contained in the Commonwealth's Implementation Plan and Operating Permits Program.

DATES: The direct final rule is withdrawn as of May 29, 2012.

ADDRESSES: EPA has established docket number EPA-R02-OAR-2012-0032 for this action. Copies of the state submittal(s) are available at the following address for inspection during normal business hours: Environmental Protection Agency, Region 2 Office, Air Programs Branch, 290 Broadway, 25th Floor, New York, New York 10007-1866.

FOR FURTHER INFORMATION CONTACT: Kirk J. Wieber, Air Programs Branch, Environmental Protection Agency, 290 Broadway, 25th Floor, New York, New York 10007-1866, (212) 637-3381.

SUPPLEMENTARY INFORMATION: In the direct final rule published at 77 FR 16676, EPA stated that if we received adverse comments by April 23, 2012, the rule would be withdrawn and not take effect. EPA subsequently received an adverse comment. EPA will address the comment received in a subsequent final action based upon the proposed action also published on March 22, 2012 (77 FR 16795). EPA will not institute a second comment period on this action.

List of Subjects

40 CFR Part 52

Environmental protection, Air pollution control, Incorporation by reference, Intergovernmental relations, Reporting and recordkeeping requirements, Volatile organic compounds.

40 CFR Part 70

Administrative practice and procedure, Air pollution control, Intergovernmental relations, Reporting and recordkeeping requirements.

Dated: May 9, 2012.
Judith A. Enck,
Regional Administrator, Region 2.

[FR Doc. 2012-12783 Filed 5-25-12; 8:45 am]

BILLING CODE 6560-50-P